DEPARTMENT OF TRANSPORTATION

Federal Aviation Administration

14 CFR Part 39

[Docket No. FAA-2006-25896; Directorate Identifier 2006-NE-33-AD; Amendment 39-14775; AD 2006-20-06]

RIN 2120-AA64

Airworthiness Directives; General Electric Company CF34-10E Series Turbofan Engines; Correction

AGENCY: Federal Aviation Administration, DOT.

ACTION: Final rule; correction.

SUMMARY: This document makes a correction to Airworthiness Directive (AD) 2006-20-06. That AD applies to General Electric Company (GE) CF34-10E series turbofan engines. We published AD 2006-20-06 in the Federal Register on September 29, 2006 (71 FR 57403). The issue date of the AD was inadvertently omitted. This document adds the AD issue date. In all other respects, the original document remains the same.

DATES: Effective Date: Effective October 16, 2006.

FOR FURTHER INFORMATION CONTACT: Tara Fitzgerald, Aerospace Engineer, Engine Certification Office, FAA, Engine and Propeller Directorate, 12 New England Executive Park, Burlington, MA 01803; telephone (781) 238-7130; fax (781) 238-7199.

SUPPLEMENTARY INFORMATION: A final rule AD, FR Doc. 06-8284, that applies to GE CF34-10E series turbofan engines was published in the Federal Register on September 29, 2006 (71 FR 57403). The following correction is needed:

§ 39.13 [Corrected]

On page 57405, in the first column, after compliance paragraph (q), add “Issued in Burlington, Massachusetts, on September 21, 2006.”

Issued in Burlington, MA, on October 6, 2006.
Peter A. White,
Acting Manager, Engine and Propeller Directorate, Aircraft Certification Service.

[FR Doc. E6-17007 Filed 10-13-06; 8:45 am]

BILLING CODE 4910-13-P